DEPARTMENT OF TRANSPORTATION

Federal Transit Administration

Notice of Limitation on Claims Against Proposed Public Transportation Projects

AGENCY: Federal Transit Administration (FTA), DOT.

ACTION: Notice of limitation on claims.

SUMMARY: This notice announces final environmental actions taken by the Federal Transit Administration (FTA) for public transportation projects in the following areas: Denver, Colorado, and Jacksonville, Florida. The purpose of this notice is to announce publicly the environmental decisions by FTA on the subject projects and to activate the limitation on any claims that may challenge these final environmental actions.

DATES: By this notice, FTA is advising the public of final agency actions subject to Title 23, United States Code (U.S.C.), section 139(l). A claim seeking judicial review of the FTA actions announced herein for the listed public transportation projects will be barred unless the claim is filed on or before May 18, 2009.

FOR FURTHER INFORMATION CONTACT: Elizabeth Zelasko, Environmental Protection Specialist, Office of Planning and Environment, 202-366-0244, or Christopher Van Wyk, Attorney-Advisor, Office of Chief Counsel, 202-366-1733. FTA is located at 1200 New Jersey Avenue, SE., Washington, DC 20590. Office hours are from 9 a.m. to 5:30 p.m., e.t., Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA), and in other documents in the FTA administrative record for the project. The final agency environmental decision documents—Records of Decision (ROD) or Findings of No Significant Impact (FONSI)—for the listed projects are available online at http://www.fta.dot.gov/planning/environment/planning_environment_documents.html or may be obtained by contacting the FTA Regional Office for the metropolitan area where the project is located. Contact information for the FTA Regional Offices may be found at http://www.fta.dot.gov.

This notice applies to all FTA decisions on the listed projects as of the issuance date of this notice and all laws under which such actions were taken, including, but not limited to, the National Environmental Policy Act (NEPA) [42 U.S.C. 4321-4375], Section 4(f) of the Department of Transportation Act of 1966 [49 U.S.C. 303], Section 106 of the National Historic Preservation Act [16 U.S.C. 470f], and the Clean Air Act [42 U.S.C. 7401-7671q].

The projects and actions that are the subject of this notice are:

1. Project name and location: Denver Union Station, Denver, Colorado. Project sponsor: Regional Transportation District (RTD). Project description: The FTA and RTD have completed a Final Environmental Impact Statement (EIS) for modifications to turn the historic Denver Union Station into a multimodal transportation center for the Metro Denver Region. Modifications to Denver Union Station include construction of two light rail transit tracks near the consolidated mainline track; construction of eight at-grade passenger tracks from Amtrak, Ski Train, and RTD's East, North Metro, Northwest, and Gold Line corridors; construction of a regional and commercial bus facility; and improved pedestrian and bicycle access. RTD also plans to reconstruct street infrastructure around the station to improve traffic flow and build a 150 parking space structure over the passenger rail station. Final Agency Actions: ROD signed on October 17, 2008; Section 106 Memorandum of Agreement signed on September 3, 2008; Project-level Air Conformity determination; and Section 4(f) finding. Supporting documentation: Denver Union Station Final EIS signed on July 24, 2008.

2. Project name and location: Phase One Downtown Environmental Assessment. Project sponsor: Jacksonville Transportation Authority, Jacksonville, Florida. Project description: Jacksonville Transportation Authority will implement a bus rapid transit project to service downtown Jacksonville. Project elements include reconstructed bus routes, dedicated bus lanes during peak hours of operation, purchase of new low floor vehicles, traffic signal priority, and real-time traveler information. The Phase One project also includes new bus super stops that will include a boarding area between 60 and 120 feet long, will be located every quarter of a mile, and will have shelters with route and schedule information. Final agency actions: FONSI signed on October 8, 2008; Section 106 Finding of No Historic Properties Affected. Supporting documentation: Jacksonville Rapid Transit System Phase One Environmental Assessment signed on June 9, 2008.

Issued on: November 10, 2008.
Susan Borinsky,
Associate Administrator for Planning and Environment, Washington, DC.

[FR Doc. E8-27272 Filed 11-17-08; 8:45 am]

BILLING CODE 4910-57-P